DEPARTMENT OF HOMELAND SECURITY

Federal Emergency Management Agency

[Docket ID FEMA-2024-0002; Internal Agency Docket No. FEMA-B-2447]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Online location of letter of map revision | Date of modification | Community No.
Arizona:
Cochise. | City of Sierra Vista (23-09-1001P). | The Honorable Clea McCaa II, Mayor, City of Sierra Vista, 1011 North Coronado Drive, Sierra Vista, AZ 85635. | Community Development Department, 1011 North Coronado Drive, Sierra Vista, AZ 85635. | https://msc.fema.gov/portal/advanceSearch. | Aug. 5, 2024 | 040017
Maricopa. | City of Avondale (23-09-0716P). | The Honorable Kenneth N. Weise, Mayor, City of Avondale, 11465 West Civic Center Drive, Avondale, AZ 85323. | Development & Engineering Services Department, 11465 West Civic Center Drive, Avondale, AZ 85323. | https://msc.fema.gov/portal/advanceSearch. | Aug. 9, 2024 | 040038
Maricopa. | City of Phoenix (24-09-0419P). | The Honorable Kate Gallego, Mayor, City of Phoenix, 200 West Washington Street, 11th Floor, Phoenix, AZ 85003. | Street Transportation Department, 200 West Washington Street, 5th Floor, Phoenix, AZ 85003. | https://msc.fema.gov/portal/advanceSearch. | Aug. 9, 2024 | 040051
Maricopa. | City of Surprise (23-09-0209P). | The Honorable Skip Hall, Mayor, City of Surprise, 16000 North Civic Center Plaza, Surprise, AZ 85374. | Public Works Department, Engineering Development Services, 16000 North Civic Center Plaza, Surprise, AZ 85374. | https://msc.fema.gov/portal/advanceSearch. | Sep. 6, 2024 | 040053
Maricopa. | Unincorporated Areas of Maricopa County (23-09-0209P). | The Honorable Jack Sellers, Chair, Board of Supervisors, Maricopa County, 301 West Jefferson Street, 10th Floor, Phoenix, AZ 85003. | Flood Control District of Maricopa County, 2801 West Durango Street, Phoenix, AZ 85009. | https://msc.fema.gov/portal/advanceSearch. | Sep. 6, 2024 | 040037
Pima. | Town of Marana (23-09-1387P). | The Honorable Ed Honea, Mayor, Town of Marana, 11555 West Civic Center Drive, Marana, AZ 85653. | Engineering Department, Marana Municipal Complex, 11555 West Civic Center Drive, Marana, AZ 85653. | https://msc.fema.gov/portal/advanceSearch. | Sep. 9, 2024 | 040118
Pinal. | City of Apache Junction (23-09-1322P). | The Honorable Chip Wilson, Mayor, City of Apache Junction, 300 East Superstition Boulevard, Apache Junction, AZ 85119. | City Hall, 300 East Superstition Boulevard, Apache Junction, AZ 85119. | https://msc.fema.gov/portal/advanceSearch. | Aug. 28, 2024 | 040120
California:
Nevada. | Town of Truckee (23-09-0444P). | The Honorable David Polivy, Mayor, Town of Truckee, 10183 Truckee Airport Road, Truckee, CA 96161. | Eric W. Rood Administrative Center, 950 Maidu Avenue, Nevada City, CA 95959. | https://msc.fema.gov/portal/advanceSearch. | Aug. 19, 2024 | 060762
San Diego. | City of San Diego (23-09-0819P). | The Honorable Todd Gloria, Mayor, City of San Diego, 202 C Street, 11th Floor, San Diego, CA 92101. | Development Services Department, 1222 1st Avenue, MS 301, San Diego, CA 92101. | https://msc.fema.gov/portal/advanceSearch. | Aug. 16, 2024 | 060295
San Diego. | City of San Diego (24-09-0077P). | The Honorable Todd Gloria, Mayor, City of San Diego, 202 C Street, 11th Floor, San Diego, CA 92101. | Development Services Department, 1222 1st Avenue, MS 301, San Diego, CA 92101. | https://msc.fema.gov/portal/advanceSearch. | Aug. 29, 2024 | 060295
Santa Clara. | City of Cupertino (22-09-1032P). | The Honorable Sheila Mohan, Mayor, City of Cupertino, 10300 Torre Avenue, Cupertino, CA 95014. | Planning Department, 10300 Torre Avenue, Cupertino, CA 95014. | https://msc.fema.gov/portal/advanceSearch. | Sep. 5, 2024 | 060339
Santa Clara. | City of Los Altos (22-09-1032P). | The Honorable Jonathan D. Weinberg, Mayor, City of Los Altos, 1 North San Antonio Road, Los Altos, CA 94022. | Public Works Department, 26379 Fremont Road, Los Altos, CA 94022. | https://msc.fema.gov/portal/advanceSearch. | Sep. 5, 2024 | 060341
Santa Clara. | City of Mountain View (22-09-1032P). | The Honorable Pat Showalter, Mayor, City of Mountain View, P.O. Box 7540, Mountain View, CA 94039. | Public Works Department, 500 Castro Street, 1st Floor, Mountain View, CA 94041. | https://msc.fema.gov/portal/advanceSearch. | Sep. 5, 2024 | 060347
Santa Clara. | Unincorporated Areas of Santa Clara County (22-09-1032P). | The Honorable Susan Ellenberg, President, Board of Supervisors, Santa Clara County, 70 West Hedding Street 10th Floor, San Jose, CA 95110. | Santa Clara County, Department of Planning and Development, 70 West Hedding Street, 7th Floor East Wing, San Jose, CA 95110. | https://msc.fema.gov/portal/advanceSearch. | Sep. 5, 2024 | 060337
Shasta. | Unincorporated Areas of Shasta County (23-09-0857P). | The Honorable Kevin W. Crye, Chair, Board of Supervisors, Shasta County, 1450 Court Street, Suite 308B, Redding, CA 96001. | Shasta County, Resource Management and Public Works Building, 1855 Placer Street, Redding, CA 96001. | https://msc.fema.gov/portal/advanceSearch. | Aug. 22, 2024 | 060358
Tulare. | Unincorporated Areas of Tulare County (22-09-1347P). | The Honorable Larry Micari, Chair, Board of Supervisors, Tulare County, 2800 West Burrel Avenue, Visalia, CA 93291. | Tulare County Resource Management Agency, Government Plaza, 5961 South Mooney Boulevard, Visalia, CA 93277. | https://msc.fema.gov/portal/advanceSearch. | Aug. 8, 2024 | 065066
Ventura. | Unincorporated Areas of Ventura County (24-09-0395P). | The Honorable Kelly Long, Chair, Board of Supervisors, Ventura County, 1203 Flynn Road, Suite 220, Camarillo, CA 93012. | Ventura County, Public Works Agency, 800 South Victoria Avenue, Ventura, CA 93009. | https://msc.fema.gov/portal/advanceSearch. | Aug. 27, 2024 | 060413
Florida:
Bay. | Unincorporated Areas of Bay County (23-04-0322P). | Robert Majka, County Manager, Bay County Board of Commissioners, 840 West 11th Street, Panama City, FL 32401. | Bay County Planning and Zoning, 707 Jenks Avenue, Suite B, Panama City, FL 32401. | https://msc.fema.gov/portal/advanceSearch. | Aug. 8, 2024 | 120004
Nassau. | Unincorporated Areas of Nassau County (23-04-5724P). | Taco Pope, County Manager, Nassau County, 96135 Nassau Place, Suite 1, Yulee, FL 32097. | Nassau County Building Department, 96161 Nassau Place, Yulee, FL 32097. | https://msc.fema.gov/portal/advanceSearch. | Aug. 8, 2024 | 120170
St. Johns. | Unincorporated Areas of St. Johns County (23-04-4828P). | Sarah Arnold, Chair, St. Johns County Board of Commissioners, 500 San Sebastian View, St. Augustine, FL 32084. | St. Johns County Permit Center, 4040 Lewis Speedway, St. Augustine, FL 32084. | https://msc.fema.gov/portal/advanceSearch. | Aug. 19, 2024 | 125147
Idaho:
Ada. | City of Eagle (23-10-0615P). | The Honorable Brad Pike, Mayor, City of Eagle, City Hall, 660 East Civil Lane, Eagle, ID 83616. | City Hall, 660 East Civil Lane, Eagle, ID 83616. | https://msc.fema.gov/portal/advanceSearch. | Aug. 15, 2024 | 160003
Blaine. | Unincorporated Areas of Blaine County. (23-10-0498P). | Muffy Davis, Chair, Blaine County Board of Commissioners, 206 South 1st Avenue, Suite 300, Hailey, ID 83333. | Blaine County Courthouse Annex Building, 219 1st Avenue South, Suite 208, Hailey, ID 83333. | https://msc.fema.gov/portal/advanceSearch. | Aug. 1, 2024 | 165167
Indiana:
Boone. | Town of Whitestown (23-05-1314P). | The Honorable Dan Patterson, Town Council President, Town of Whitestown, 6210 Veterans Drive, Whitestown, IN 46075. | Town Hall, 3 South Main Street, Whitestown, IN 46075. | https://msc.fema.gov/portal/advanceSearch. | Aug. 9, 2024 | 180015
Boone. | Town of Zionsville (23-05-1314P). | The Honorable John Stehr, Mayor, Zionsville Town Hall, 1100 West Oak Street, Zionsville, IN 46077. | Planning Department, Town Hall, 1100 West Oak Street, Zionsville, IN 46077. | https://msc.fema.gov/portal/advanceSearch. | Aug. 9, 2024 | 180016
Elkhart. | City of Elkhart (23-05-0829P). | The Honorable Rod Roberson, Mayor, City of Elkhart, 229 South 2nd Street, Elkhart, IN 46516. | City Hall, 229 South 2nd Street, Elkhart, IN 46516. | https://msc.fema.gov/portal/advanceSearch. | Aug. 22, 2024 | 180057
Lake. | Town of Griffith (23-05-0583P). | The Honorable Rick Ryfa, Town Council President, Town of Griffith, 111 North Broad Street Griffith, IN 46319. | Town Hall, 111 North Broad Street, Griffith, IN 46319. | https://msc.fema.gov/portal/advanceSearch. | Aug. 26, 2024 | 185175
Lake. | Town of Merrillville (23-05-0583P). | The Honorable Rick Bella, Town Council President, Town of Merrillville, 7820 Broadway Street, Merrillville, IN 46410. | Municipal Complex, 7820 Broadway Street, Merrillville, IN 46410. | https://msc.fema.gov/portal/advanceSearch. | Aug. 26, 2024 | 180138
Lake. | Town of Schererville (23-05-0583P). | The Honorable Thomas J. Schmitt, Town Council President, Town of Schererville, 10 East Joliet Street, Schererville, IN 46375. | Town Hall, 10 East Joliet Street, Schererville, IN 46375. | https://msc.fema.gov/portal/advanceSearch. | Aug. 26, 2024 | 180142
Minnesota:
Olmsted. | City of Rochester (23-05-2698P). | The Honorable Kim Norton, Mayor, City of Rochester, Mayor's Office Government Center, 201 4th Street Southeast, Rochester, MN 55904. | Planning, Land Use, Zoning Department, 2122 Campus Drive Southeast, Suite 100, Rochester, MN 55904. | https://msc.fema.gov/portal/advanceSearch. | Aug. 14, 2024 | 275246
Olmsted. | Unincorporated Areas of Olmsted County (23-05-2698P). | Greg Wright, Olmsted County Commissioner, 3rd District, 151 4th Street Southeast, Rochester, MN 55904. | Olmsted County, Planning, Land Use, Zoning Department, 2122 Campus Drive Southeast, Suite 100, Rochester, MN 55904. | https://msc.fema.gov/portal/advanceSearch. | Aug. 14, 2024 | 270626
Missouri:
St. Charles. | City of St. Charles (23-07-0528P). | The Honorable Dan Borgmeyer, Mayor, City of St. Charles, 200 North 2nd Street, St. Charles, MO 63301. | City Hall, 200 North 2nd Street, St. Charles, MO 63301. | https://msc.fema.gov/portal/advanceSearch. | Aug. 26, 2024 | 290318
St. Charles. | Unincorporated Areas of St. Charles County (23-07-0528P). | Steve Ehlmann, County Executive, St. Charles County, 100 North 3rd Street, St. Charles, MO 63301. | St. Charles County Administration Building, 201 North 2nd Street, Suite 420, St. Charles, MO 63301. | https://msc.fema.gov/portal/advanceSearch. | Aug. 26, 2024 | 290315
Nebraska: York. | City of York (23-07-0607P). | The Honorable Barry Redfern, Mayor, City of York, 100 East 4th Street, York, NE 68467. | Municipal Building, 100 East 4th Street, York, NE 68467. | https://msc.fema.gov/portal/advanceSearch. | Aug. 16, 2024 | 310237
Nevada:
Carson City. | City of Carson City (22-09-0387P). | The Honorable Lori Bagwell, Mayor, City of Carson City, City Hall, 201 North Carson Street, Suite 2, Carson City, NV 89701. | Building Division, Permit Center, 108 East Proctor Street, Carson City, NV 89071. | https://msc.fema.gov/portal/advanceSearch. | Aug. 15, 2024 | 320001
Clark. | Unincorporated Areas of Clark County (23-09-1159P). | The Honorable Tick Segerblom, Chair, Board of Commissioners, Clark County, 500 South Grand Central Parkway, 6th Floor, Las Vegas, NV 89155. | Clark County, Office of the Director of Public Works, 500 South Grand Central Parkway, 2nd Floor, Las Vegas, NV 89155. | https://msc.fema.gov/portal/advanceSearch. | Aug. 6, 2024 | 320003
Clark. | Unincorporated Areas of Clark County (23-09-1252P). | The Honorable Tick Segerblom, Chair, Board of Commissioners, Clark County, 500 South Grand Central Parkway, 6th Floor, Las Vegas, NV 89155. | Clark County, Office of the Director of Public Works, 500 South Grand Central Parkway, 2nd Floor, Las Vegas, NV 89155. | https://msc.fema.gov/portal/advanceSearch. | Sep. 9, 2024 | 320003
New York: Oswego. | City of Oswego (23-02-0639P). | The Honorable Robert A. Corradino, Mayor, City of Oswego, City Hall—2nd Floor, 13 West Oneida Street, Oswego, NY 13126. | City Hall, Engineering Office, 3rd Floor, 13 West Oneida Street, Oswego, NY 13126. | https://msc.fema.gov/portal/advanceSearch. | Oct. 10, 2024 | 360656
Ohio: Butler. | Unincorporated Areas of Butler County (23-05-1958P). | Cindy Carpenter, President, Butler County Board of Commissioners, Government Services Center, 315 High Street, 6th Floor, Hamilton, OH 45011. | Butler County Administrative Center Building and Zoning Department, 130 High Street, 1st Floor, Hamilton, OH 45011. | https://msc.fema.gov/portal/advanceSearch. | Aug. 14, 2024 | 390037
Oregon: Benton. | Unincorporated Areas of Benton County (23-10-0749P). | Xanthippe Augerot, Chair, Benton County Board of Commissioners, Kalapuya Building, 4500 Southwest Research Way, Corvallis, OR 97333. | Benton County Sheriff's Office, 180 Northwest 5th Street, Corvallis, OR 97333. | https://msc.fema.gov/portal/advanceSearch. | Jul. 31, 2024 | 410008
Texas: Tarrant. | City of Fort Worth (22-06-2195P). | The Honorable Mattie Parker, Mayor, City of Fort Worth, City Hall, 200 Texas Street, Fort Worth, TX 76102. | Department of Transportation and Public Works, 1000 Throckmorton Street, Fort Worth, TX 76102. | https://msc.fema.gov/portal/advanceSearch. | Aug. 7, 2024 | 480596
Wisconsin:
Marathon. | Unincorporated Areas of Marathon County (23-05-1298P). | Kurt Gibbs, County Board Member District 32, Marathon County, 500 Forest Street, Wausau, WI 54403. | Marathon County, Conservation, Planning and Zoning Office, 210 River Drive, Wausau, WI 54403. | https://msc.fema.gov/portal/advanceSearch. | Oct. 14, 2024 | 550245
Waukesha. | Unincorporated Areas of Waukesha County (23-05-1476P). | Paul Decker, Executive Committee Chair, Waukesha County, 325 Parkview Court, Hartland, WI 53029. | Waukesha County Administration Building, 515 West Moreland Boulevard, Waukesha, WI 53188. | https://msc.fema.gov/portal/advanceSearch. | Oct. 15, 2024 | 550476
Waukesha. | Village of Sussex (23-05-1476P). | The Honorable Anthony J. LeDonne, President, Village of Sussex, W233N6478 Kneiske Drive, Sussex, WI 53089. | Village Hall, N64W23760 Main Street, Sussex, WI 53089. | https://msc.fema.gov/portal/advanceSearch. | Oct. 15, 2024 | 550490

[FR Doc. 2024-14177 Filed 6-27-24; 8:45 am]

BILLING CODE 9110-12-P